DEPARTMENT OF THE INTERIOR

National Park Service

[NPS-WASO-NAGPRA-12674; PPWOCRADN0-PCU00RP14.R50000]

Notice of Intent To Repatriate a Cultural Item: U.S. Department of the Interior, National Park Service, Little Bighorn Battlefield National Monument, Crow Agency, MT

AGENCY: National Park Service, Interior.

ACTION: Notice.

SUMMARY: The U.S. Department of the Interior, National Park Service, Little Bighorn Battlefield National Monument, in consultation with the appropriate Indian tribes or Native Hawaiian organizations, has determined that the cultural item listed in this notice meets the definition of sacred objects. Lineal descendants or representatives of any Indian tribe or Native Hawaiian organization not identified in this notice that wish to claim the cultural item should submit a written request to Little Bighorn Battlefield National Monument. If no additional claimants come forward, transfer of control of the cultural item to the lineal descendants, Indian tribes, or Native Hawaiian organizations stated in this notice may proceed.

DATES: Lineal descendants or representatives of any Indian tribe or Native Hawaiian organization not identified in this notice that wish to claim these cultural items should submit a written request with information in support of the claim to Little Bighorn Battlefield National Monument at the address in this notice by May 15, 2013.

ADDRESSES: Denice Swanke, Superintendent, Little Bighorn Battlefield National Monument, P.O. Box 39, Crow Agency, MT 59022-0039, telephone (406) 638-3201, email denice_swanke@nps.gov.

SUPPLEMENTARY INFORMATION: Notice is here given in accordance with the Native American Graves Protection and Repatriation Act (NAGPRA), 25 U.S.C. 3005, of the intent to repatriate a cultural item under the control of the U.S. Department of the Interior, National Park Service, Little Bighorn Battlefield National Monument, Crow Agency, MT, that meets the definition of sacred objects under 25 U.S.C. 3001.

This notice is published as part of the National Park Service's administrative responsibilities under NAGPRA, 25 U.S.C. 3003(d)(3). The determinations in this notice are the sole responsibility of the Superintendent, Little Bighorn Battlefield National Monument.

History and Description of the Cultural Item

In 1960, one cultural item was purchased by Thomas K. Garry, Superintendent of Custer Battlefield National Monument, now known as Little Bighorn Battlefield National Monument. The cultural item originally belonged to Charles Whistling Elk, a member of the Northern Cheyenne Tribe. On April 27, 1960 it was purchased from Charles Whistling Elk's son-in-law, Albert Tallbull, also of the Northern Cheyenne Tribe. The sacred object is a medicine bundle containing multiple objects including rattles, a buffalo tail, a beaded leather bag, and several small bags containing herbs, roots, and amulets.

Gilbert Whitedirt, grandson of Charles Whistling Elk, is requesting repatriation of the cultural item described above. The medicine bundle is needed by Mr. Whitedirt to continue traditional ceremonies. Little Bighorn Battlefield National Monument consulted with the Northern Cheyenne Cultural Commission and Tribal Historic Preservation Office to determine that Gilbert Whitedirt is an appropriate recipient under the Northern Cheyenne traditional kinship system and common law system of descendance.

Determinations Made by Little Bighorn Battlefield National Monument

Officials of Little Bighorn Battlefield National Monument have determined that:

• Pursuant to 25 U.S.C. 3001(3)(C), the one cultural item described above is a specific ceremonial object needed by traditional Native American religious leaders for the practice of traditional Native American religions by their present-day adherents.

• Pursuant to 25 U.S.C. 3005(a)(5)(A), Mr. Gilbert Whitedirt is the direct lineal descendant of the individual who owned this sacred object.

Additional Requestors and Disposition

Lineal descendants or representatives of any Indian tribe or Native Hawaiian organization not identified in this notice that wish to claim this cultural item should submit a written request with information in support of the claim to Denice Swanke, Superintendent, Little Bighorn Battlefield National Monument, P.O. Box 39, Crow Agency, MT 59022-0039, telephone (406) 638-3201, email denice_swanke@nps.gov, by May 15, 2013. After that date, if no additional claimants have come forward, transfer of control of the sacred object to Mr. Gilbert Whitedirt may proceed.

Little Bighorn Battlefield National Monument is responsible for notifying Mr. Gilbert Whitedirt; the Arapaho Tribe of the Wind River Reservation, Wyoming; Assiniboine and Sioux Tribes of the Fort Peck Indian Reservation, Montana; Cheyenne and Arapaho Tribes, Oklahoma (previously listed as the Cheyenne-Arapaho Tribes of Oklahoma); Cheyenne River Sioux Tribe of the Cheyenne River Reservation, South Dakota; Crow Creek Sioux Tribe of the Crow Creek Reservation, South Dakota; Crow Tribe of Montana; Flandreau Santee Sioux Tribe of South Dakota; Lower Brule Sioux Tribe of the Lower Brule Reservation, South Dakota; Northern Cheyenne Tribe of the Northern Cheyenne Indian Reservation, Montana; Oglala Sioux Tribe (previously listed as the Oglala Sioux Tribe of the Pine Ridge Reservation, South Dakota); Rosebud Sioux Tribe of the Rosebud Indian Reservation, South Dakota; Santee Sioux Nation, Nebraska; Sisseton-Wahpeton Oyate of the Lake Traverse Reservation, South Dakota; Spirit Lake Tribe, North Dakota; Standing Rock Sioux Tribe of North & South Dakota; Three Affiliated Tribes of the Fort Berthold Reservation, North Dakota; and Yankton Sioux Tribe of South Dakota that this notice has been published.

Dated: March 26, 2013.
Sherry Hutt,
Manager, National NAGPRA Program.

[FR Doc. 2013-08769 Filed 4-12-13; 8:45 am]

BILLING CODE 4312-50-P